DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Gear Identification.

OMB Control Number: 0648-0353.

Form Number(s): None.

Type of Request: Regular (extension of a currently approved information collection).

Number of Respondents: 988.

Average Hours per Response: Tag requests and replacements, 15 minutes; buoy marking, 15 minutes per buoy.

Burden Hours: 1,841.

Needs and Uses: Regulations specify that all hook-and-line, longline pot, and pot-and-line marker buoys carried on board or used by any vessel must be marked with Federal Fisheries Permit number or State of Alaska Department of Fish and Game vessel registration number. Regulations that marker buoys be marked with identification information are essential to facilitate fisheries enforcement and actions concerning damage, loss, and civil proceedings. The ability to link fishing gear to the vessel owner or operator is crucial to enforcement of regulations.

This collection also provides a voluntary opportunity for Gulf of Alaska (GOA) individual fishing quota (IFQ) sablefish fishermen to use a gear that physically protects caught sablefish from depredation by whales. That option, the use of pot longline gear, currently exists in sablefish IFQ fisheries in the Bering Sea and Aleutian Islands management areas. Potential benefits of pot longline gear for sablefish fishing include: Mitigation of whale interaction with fishing gear, reduced mortality of seabirds, reduced bycatch of non-target fish species, reduced overall halibut mortality when targeting sablefish, and better accounting of total sablefish fishing mortality.

Whales are able to strip hooked fish from hook-and-line gear, which reduces the amount of sablefish caught by fishermen. As such, whale depredation represents undocumented fishing mortality.

Many seabird species are attracted to fishing vessels in order to forage on bait, offal, discards, and other prey made available by fishing operations. These interactions can result in direct mortality for seabirds if they become entangled in fishing gear or strike the vessel or fishing gear while flying.

Each vessel must use mandatory logbooks (see OMB Control No. 0648-0213 and 0648-0515) when participating in a longline pot fishery. When the number of pots deployed by a vessel is self-reported through logbooks, the use of pot tags provides an additional enforcement tool to ensure that the pot limits are not exceeded. The use of pot tags requires a uniquely identified tag to be securely affixed to each pot. This allows at-sea enforcement and post-trip verification of the number of pots fished.

Affected Public: Business or other for-profit organizations; individuals or households.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 10, 2017.
Sarah Brabson,
NOAA PRA Clearance Officer.

[FR Doc. 2017-03076 Filed 2-15-17; 8:45 am]

BILLING CODE 3510-22-P